DEPARTMENT OF COMMERCE

International Trade Administration

[A-552-801]

Certain Frozen Fish Fillets From the Socialist Republic of Vietnam: Partial Rescission of Antidumping Duty Administrative Review

AGENCY: Import Administration, International Trade Administration, Department of Commerce.

SUMMARY: The Department of Commerce (“the Department”) is conducting an administrative review of the antidumping duty order on certain frozen fish fillets (“fish fillets”) from the Socialist Republic of Vietnam (“Vietnam”).¹ The Department is rescinding the review with respect to An Giang Fisheries Import & Export Joint Stock Company (“Agifish”). The period of review (“POR”) is August 1, 2010, through July 31, 2011.

¹ See Notice of Antidumping Duty Order: Certain Frozen Fish Fillets from the Socialist Republic of Vietnam, 68 FR 47909 (August 12, 2003).

DATES: Effective Date: December 10, 2012.

FOR FURTHER INFORMATION CONTACT: Paul Walker, AD/CVD Operations, Office 9, Import Administration, International Trade Administration, U.S. Department of Commerce, 14th Street and Constitution Avenue NW., Washington, DC 20230; telephone 202.482.0413.

SUPPLEMENTARY INFORMATION:

Case History

On October 3, 2011, the Department initiated the eighth administrative review of fish fillets from Vietnam with respect to 32 companies.² On January 2 and 3, 2012, Agifish, along with the Catfish Farmers of America and individual U.S. catfish processors (collectively, “Petitioners”), withdrew their requests for an administrative review of Agifish.³ On September 12, 2012, the Department published the Preliminary Results.⁴

² See Initiation of Antidumping and Countervailing Duty Administrative Reviews and Requests for Revocation, 76 FR 61076 (October 3, 2011).

³ See Agifish's submission dated January 3, 2012 at 1. See Petitioners' submission dated January 2, 2012 at 1.

⁴ See Certain Frozen Fish Fillets from the Socialist Republic of Vietnam: Preliminary Results of the Eighth Antidumping Duty Administrative Review and Ninth New Shipper Reviews, Partial Rescission of Review, and Intent to Revoke Order in Part, 77 FR 56180 (September 12, 2012) (“Preliminary Results”).

Partial Rescission of Administrative Review

Pursuant to 19 CFR 351.213(d)(1), the Secretary will rescind an administrative review, in whole or in part, if a party who requested the review withdraws the request within 90 days of the date of publication of notice of initiation of the requested review. The withdrawal requests filed by the Petitioners and Agifish were submitted within the 90 day period and, thus, are timely. Because the withdrawal requests were timely submitted and because no other party continues to have an outstanding request for review of Agifish, in accordance with section 351.213(d)(1) of the Department's regulations, we are partially rescinding this review with respect to Agifish.

Assessment Rates

The Department will instruct U.S. Customs and Border Protection (“CBP”) to assess antidumping duties on all appropriate entries. Agifish has a separate rate from a prior segment of this proceeding; therefore, antidumping duties shall be assessed at a rate equal to the cash deposit of estimated antidumping duties required at the time of entry, or withdrawal from warehouse, for consumption during the POR in accordance with 19 CFR 351.212(c)(2). The Department intends to issue appropriate assessment instructions directly to CBP 15 days after publication of this notice.

Notification to Interested Parties

This notice serves as a preliminary reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

Notification Regarding Administrative Protective Orders

This notice also serves as a reminder to parties subject to administrative protective order (“APO”) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

We are issuing and publishing this determination in accordance with sections 751(a)(1) and 777(i)(1) of the Tariff Act of 1930, as amended.

Dated: November 30, 2012.
Gary Taverman,
Senior Advisor for Antidumping and Countervailing Duty Operations.

[FR Doc. 2012-29775 Filed 12-7-12; 8:45 am]

BILLING CODE 3510-DS-P